DEPARTMENT OF THE INTERIOR

Bureau of Land Management

[NMNM 103474]

Notice of Proposed Withdrawal; New Mexico

AGENCY: Bureau of Land Management, Interior.

ACTION: Notice.

SUMMARY: The United States Forest Service proposes to withdraw 14.417 acres of National Forest System land to protect the unique prehistoric, historical, and interpretive integrity of the Tijeras Pueblo and the future investment of the Sandia Ranger District Administrative Site. This notice segregates the land for up to 2 years from location and entry under the United States public land laws, including the mining laws but not the mineral leasing laws.

DATES: Comments should be received on or before October 10, 2000.

ADDRESSES: Comments should be sent to the Forest Supervisor, Cibola National Forest, 2113 Osuna Road NE., Suite A, Albuquerque, New Mexico 87113-1001.

SUPPLEMENTARY INFORMATION: On April 5, 2000, the Forest Service filed an application to withdraw the following described National Forest System land from location and entry under the United States mining laws, subject to valid existing rights:

New Mexico Principal Meridian, Cibola National Forest

T. 10 N., R. 5 E.,

Sec. 23, SW¼NW¼SW¼, N½NW¼SW¼SW¼.

The area described contains approximately 14.417 acres in Bernalillo County.

All persons who wish to submit comments, suggestions, or objections about the proposed withdrawal may present their views in writing to the Forest Supervisor of the Cibola National Forest. The application will be processed in accordance with the regulations set forth in 43 CFR 2300.

Dated: June 30, 2000.
Steven W. Anderson,
Assistant Field Manager, Division of Multi-Resources.

[FR Doc. 00-17390 Filed 7-10-00; 8:45 am]

BILLING CODE 3410-11-P